DEPARTMENT OF DEFENSE

Office of the Secretary

[Docket ID: DOD-2019-OS-0025]

Notice of Availability of a Draft Final Environmental Assessment for the Proposed Demolition of the 1.25-Mile Pipelines Associated With Defense Fuel Support Point (DFSP) Newington, New Hampshire

AGENCY: Defense Logistics Agency (DLA), United States Air Force, Department of Defense.

ACTION: Notice of Availability (NOA).

SUMMARY: The DLA announces the availability of a Draft Final Environmental Assessment (EA) that analyzes the potential environmental impacts associated with the Proposed Action of the demolition of the 1.25-Mile Pipelines Associated with DFSP Newington, New Hampshire. The Draft Final EA has been prepared as required under the National Environmental Policy Act (NEPA) of 1969. In addition, the Draft Final EA complies with DLA Regulation 1000.22.

DATES: The public comment period will end on April 15, 2019. Comments received by the end of the 30-day period will be considered when preparing the final version of the document.

ADDRESSES: You may submit comments, identified by DOD-2019-OS-0025, to one of the following:

• Federal eRulemaking Portal: http://www.regulations.gov. Follow the instructions for submitting comments.

• Mail: Department of Defense, Office of the Chief Management Officer, Directorate for Oversight and Compliance, Regulatory and Advisory Committee Division, 4800 Mark Center Drive, Mailbox #24, Suite 08D09, Alexandria, VA 22350-1700.

FOR FURTHER INFORMATION CONTACT: Stacey Christenbury at 571-767-6557 during normal business hours Monday through Friday, from 8:00 a.m. to 4:30 p.m. (EST) or by email: NEPA@dla.mil.

SUPPLEMENTARY INFORMATION: The Draft Final EA is available in hardcopy at the Langdon Public Library, 328 Nimble Hill Road, Newington, NH 03801, Phone: (603) 436-5154, or electronically at http://www.regulations.gov. Documents referenced in the Draft Final EA are available upon request.

Dated: March 11, 2019.
Aaron T. Siegel,
Alternate OSD Federal Register Liaison Officer, Department of Defense.

[FR Doc. 2019-04738 Filed 3-13-19; 8:45 am]

BILLING CODE 5001-06-P